DEPARTMENT OF COMMERCE

National Oceanic and Atmospheric Administration

[RTID: 0648-XB411]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Spiny Dogfish Committee will hold a public meeting.

DATES: The meeting will be held on Friday, October 1, 2021; from 9:30 a.m. to 1 p.m. For agenda details, see SUPPLEMENTARY INFORMATION.

ADDRESSES: The meeting will be held via webinar. Webinar connection information will be available at: https://www.mafmc.org/council-events.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of the meeting is for the Spiny Dogfish Committee to provide recommendations regarding future specifications, including potential federal trip limit modifications.

Special Accommodations

The meeting is physically accessible to people with disabilities. Requests for sign language interpretation or other auxiliary aid should be directed to Shelley Spedden at (302) 526-5251, at least 5 days prior to any meeting date.

Authority: 16 U.S.C. 1801 et seq.

Dated: September 3, 2021.
Tracey L. Thompson,
Acting Deputy Director, Office of Sustainable Fisheries, National Marine Fisheries Service.

[FR Doc. 2021-19493 Filed 9-7-21; 8:45 am]

BILLING CODE 3510-22-P